DEPARTMENT OF DEFENSE

Office of the Secretary

[Docket ID DoD-2013-OS-0111]

Submission for OMB Review; Comment Request

ACTION: Notice.

SUMMARY: The Department of Defense has submitted to OMB for clearance, the following proposal for collection of information under the provisions of the Paperwork Reduction Act (44 U.S.C. Chapter 35).

DATES: Consideration will be given to all comments received by February 26, 2014.

FOR FURTHER INFORMATION CONTACT: Fred Licari, 571-372-0493.

SUPPLEMENTARY INFORMATION: Title, Associated Form and OMB Number: Defense Logistics Agency (DLA) Police Center Records (POLC); DLA 635; OMB Control Number 0704-TBD.

Type of Request: New Collection.

Number of Respondents: 220.

Responses per Respondent: 1.

Annual Responses: 220.

Average Burden per Response: 30 minutes.

Annual Burden Hours: 110.

Needs and Uses: DLA police require an integrated police records management system, PoliceCenter (POLC), to automate and standardize all of the common recordkeeping functions of DLA police. POLC shall provide records management of police operations, including property, incident reports, blotters, qualifications, dispatching, and other police information management considerations. The tool will allow authorized users the capability to collect, store, and access sensitive law enforcement information gathered by Police Officers. The tool will allow DLA Police to automate many police operational functions and assist with crime rate and trend analysis. Relevant law enforcement matters include, but are not limited to; traffic accidents, illegal parking, firearms records, suspicious activity, response to calls for service, criminal activity, alarm activations, medical emergencies, witnesses, victims, or suspect in a police matter, or any other situation which warrants police contact as outlined in DoD Directives and DLA policy.

In addition to those disclosures generally permitted under 5 U.S.C. 552a(b) of the Privacy Act of 1974, these records contained therein may specifically be disclosed outside the DoD as a routine use pursuant to 6 U.S.C. 552a(b)(3) as follows:

—To Federal, State, and local agencies having jurisdiction over or investigative interest in the substance of the investigation, for corrective action, debarment, or reporting purposes.

—To Government contractors employing individuals who are subjects of an investigation.

—To DLA contractors or vendors when the investigation pertains to a person they employ or to a product or service they provide to DoD when disclosure is necessary to accomplish or support corrective action.

Affected Public: Individuals and households.

Frequency: On occasion.

Respondent's Obligation: Voluntary.

OMB Desk Officer: Ms. Jasmeet Seehra.

Written comments and recommendations on the proposed information collection should be sent to Ms. Jasmeet Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD Information Management Division, 4800 Mark Center Drive, East Tower, Suite 02G09, Alexandria, VA 22350-3100.

Dated: January 22, 2014.
Aaron Siegel,
Alternate OSD Federal Register Liaison Officer, Department of Defense.

[FR Doc. 2014-01458 Filed 1-24-14; 8:45 am]

BILLING CODE 5001-06-P